DEPARTMENT OF TRANSPORTATION

Federal Aviation Administration

14 CFR Part 71

[Docket No. FAA-2009-0338; Airspace Docket No. 09-ASW-9]

Amendment of Class D and Class E Airspace; Conroe, TX

AGENCY: Federal Aviation Administration (FAA), DOT.

ACTION: Final rule, technical amendment.

SUMMARY: This action clarifies the Class D and Class E airspace descriptions for Lone Star Executive Airport, Conroe, TX, published in the Federal Register December 17, 2008 (73 FR 76517). Ambiguities in the legal description has caused inaccurate charting of the Class D and Class E surface areas at Lone Star Executive Airport. This action amends the legal descriptions to coincide with the FAA's National Aeronautical Charting Office.

DATES: Effective Date: 0901 UTC, May 7, 2009. The Director of the Federal Register approves this incorporation by reference action under 1 CFR part 51, subject to the annual revision of FAA Order 7400.9 and publication of conforming amendments.

FOR FURTHER INFORMATION CONTACT: Scott Enander, Central Service Center, Operations Support Group, Federal Aviation Administration, Southwest Region, 2601 Meacham Blvd., Ft Worth, TX 76193-0530; telephone (817) 321-7716.

SUPPLEMENTARY INFORMATION:

History

On, December 17, 2008, the FAA published in the Federal Register a final rule to establish Class D and Class E airspace at Lone Star Executive Airport, Conroe, TX (73 FR 76517, Docket No. FAA-2008-0960). Subsequent to publication, the FAA found ambiguities in the Class D and Class E airspace area depictions on the VFR Sectional Chart and VFR Terminal Area Chart for Lone Star Executive Airport. This technical amendment will clarify the above airspace area.

Class D and E airspace designations are published in paragraph 5000, and 6002, respectively, of FAA Order 7400.9S signed October 3, 2008, and effective October 31, 2008, which is incorporated by reference in 14 CFR Part 71.1. The Class D and Class E airspace designations listed in this document will be published subsequently in the Order.

Final Rule Technical Amendment

This technical amendment clarifies the legal description of the Class D & E airspace areas to avoid confusion on the part of pilots flying in the vicinity of Lone Star Executive Airport, Conroe, TX. The legal description will be restated in its entirety to avoid further confusion.

The FAA's authority to issue rules regarding aviation safety is found in Title 49 of the U.S. Code. Subtitle 1, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Lone Star Executive Airport, Conroe, TX.

In consideration of the need to clarify the legal description and avoid confusion on the part of pilots flying in the vicinity of Lone Star Executive Airport, the FAA finds good cause, pursuant to 5 U.S.C. 553(d), for making this amendment effective in less than 30 days in order to promote the safe and efficient handling of air traffic in the area. “Accordingly, since this merely involves a change in the legal description of the Conroe, TX, airspace area, and does not involve a change in the dimension or operating requirements, notice and public procedure under 5 U.S.C. 553(b) are unnecessary.”

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9S, Airspace Designations and Reporting Points, signed October 3, 2008, and effective October 31, 2008, is amended as follows:

Paragraph 5000 Class D Airspace.

ASW TX D Conroe, TX [Amended]

Lone Star Executive Airport, TX

(Lat. 30°21′09″ N., long. 95°24′52″ W.)

Navasota VORTAC

(Lat. 30°17′19″N., long. 096°03′30″ W.)

HUMBLE VORTAC

(Lat. 29°57′25″ N., long. 095°20′45″ W.)

That airspace extending upward from the surface to and including 2,700 feet MSL within a 4.1-mile radius of Lone Star Executive Airport, excluding that airspace within the 4.1 mile radius northeast of the intersection of the IAH VORTAC 356° radial and the TNV VORTAC 081° radial. This Class D airspace area is effective during the specific dates and times established in advance by a Notice to Airmen. The effective date and time will thereafter be continuously published in the Airport/Facility Directory.

* * * * *

Paragraph 6002 Class E Airspace Designated as Surface Areas.

ASW TX E2 Conroe, TX [Amended]

Lone Star Executive Airport, TX

(Lat. 30°21′09″ N., long. 95°24′52″ W.)

Navasota VORTAC

(Lat. 30°17′19″ N., long. 096°03′30″ W.)

HUMBLE VORTAC

(Lat. 29°57′25″ N., long. 095°20′45″ W.)

That airspace extending upward from the surface to and including 2,700 feet MSL within a 4.1-mile radius of Lone Star Executive Airport, excluding that airspace within the 4.1 mile radius northeast of the intersection of the IAH VORTAC 356° radial and the TNV VORTAC 081° radial. This Class E airspace area is effective during the specific dates and times established in advance by a Notice to Airmen. The effective date and time will thereafter be continuously published in the Airport/Facility Directory.

* * * * *

Issued in Fort Worth, TX, on April 9, 2009.
Anthony D. Roetzel,
Manager, Operations Support Group, ATO Central Service Center.

[FR Doc. E9-8845 Filed 4-17-09; 8:45 am]

BILLING CODE 4910-13-P